DEPARTMENT OF HOUSING AND URBAN DEVELOPMENT

[Docket No. FR-4736-N-04]

Notice of Proposed Information Collection for Public Comment—Assessment of Resident Satisfaction With Their Living Conditions

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 2, 2002.

ADDRESSES: Interested persons are invited to submit comments regarding this proposal. Comments should refer to the proposal by name and/or OMB Control number and should be sent to: Mildred M. Hamman, Reports Liaison Officer, Public and Indian Housing, Department of Housing and Urban Development, 451 7th Street, SW, Room 4238, Washington, DC 20410-5000.

FOR FURTHER INFORMATION CONTACT: Mildred M. Hamman, (202) 708-3642, extension 4218, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Assessment of resident satisfaction with their living conditions.

OMB Control Number: 2577—(Formerly 2507-0001).

Description of the need for the information and proposed use: HUD conducts a resident survey of assisted and insured housing residents on an annual basis to assess the overall living conditions. Residents of public housing agencies (PHAs) are surveyed annually in accordance with requirements of the Public Housing Assessment System (PHAS) regulation. PHAs are required to implement the survey and follow up on substandard scores. Twenty percent of multifamily property residents are surveyed annually. Properties are selected randomly. No implementation or follow-up is required.

Agency form numbers, if applicable: Not applicable.

Members of affected public: Individuals or households, businesses or other for-profit, not-for-profit institutions.

Estimation of the total number of hours needed to prepare the information collection including number of respondents, frequency of response, and hours of response: 631,261 residents receive the survey, 3,173 PHAS submit implementation and follow-up plans, HUD receives a total 269,091 responses from residents and PHAs (total based on 47% resident response rate for survey); annual submission per resident respondents and PHAs; average hours for resident response is 15 minutes; average hours for PHA response is 5.45 hours; the total reporting burden is 82,903 hours.

Status of the proposed information collection: Extension of a currently approved collection.

Authority: Section 3506 of the Paperwork Reduction Act of 1995, 44 U.S.C. Chapter 35, as amended.

Dated: May 24, 2002.
Michael Liu,
Assistant Secretary for Public and Indian Housing.

[FR Doc. 02-13836 Filed 5-31-02; 8:45 am]

BILLING CODE 4210-33-M